DEPARTMENT OF JUSTICE

Notice of Lodging Proposed Consent Decree

In accordance with Departmental Policy, 28 CFR 50.7, notice is hereby given that a proposed Consent Decree in United States v. Abeldgaard, et al., Civil Action No. A-01-378 (RRB), was lodged with the United States District Court for the District of Alaska on March 4, 2015.

This proposed Consent Decree concerns a complaint filed by the United States on behalf of the United States Environmental Protection Agency against, inter alia, Clarence Abeldgaard, Oceanview Enterprises, Inc. and Geraldine Barling, pursuant to Section 301(a) of the Clean Water Act, 33 U.S.C. 1311(a), to obtain injunctive relief from, and impose civil penalties on, the Defendants for violating the Clean Water Act by discharging dredged or fill material into the waters of the United States near Anchor Point, Alaska, without authorization by the United States Army Corps of Engineers. The proposed Consent Decree resolves the allegations against Ms. Barling.

The Department of Justice will accept written comments relating to this proposed Consent Decree for thirty (30) days from the date of publication of this Notice. Please address comments to Mark A. Nitczynski, Senior Trial Counsel, United States Department of Justice, Environment and Natural Resources Division, Environmental Defense Section, 999 18th Street, South Terrace, Suite 370, Denver, CO 80202 and refer to United States v. Abeldgaard, et al., USAO File No. 2001V0026, EPA Region X, DJ # 90-5-1-1-16195.

The proposed Consent Decree may be examined at the Clerk's Office, United States District Court for the District of Alaska, United States Courthouse, 222 West Seventh Avenue, Room 229, Anchorage, AK 99513. In addition, the proposed Consent Decree may be examined electronically at http://www.justice.gov/enrd/Consent_Decrees.html.

Cherie L. Rogers,
Assistant Section Chief, Environmental Defense Section, Environment and Natural Resources Division.

[FR Doc. 2015-05493 Filed 3-9-15; 8:45 am]

BILLING CODE 4410-15-P